DEPARTMENT OF ENERGY

[OE Docket No. EA-297-B]

Application To Export Electric Energy; SESCO Enterprises Canada, LTD

AGENCY: Office of Electricity Delivery and Energy Reliability, DOE.

ACTION: Notice of Application.

SUMMARY: SESCO Enterprises Canada, LTD. (SESCO Canada) has applied to renew its authority to transmit electric energy from the United States to Canada pursuant to section 202(e) of the Federal Power Act (FPA).

DATES: Comments, protests, or requests to intervene must be submitted to DOE and received on or before April 1, 2011.

ADDRESSES: Comments, protests, or requests to intervene should be addressed to: Christopher Lawrence, Office of Electricity Delivery and Energy Reliability, Mail Code: OE-20, U.S. Department of Energy, 1000 Independence Avenue, SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) 202-586-5260.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On September 7, 2004 the Department of Energy (DOE) issued Order No. EA-297, which authorized SESCO Canada to transmit electric energy from the United States to Canada as a power marketer for a two-year term using existing international transmission facilities. DOE renewed the SESCO Canada export authorization on May 17, 2006 in Order No. EA-297-A for a five-year term, which will expire on May 17, 2011. On January 24, 2011, SESCO Canada filed an application with DOE for renewal of the export authority contained in Order No. EA-297-A for a five-year term.

The electric energy that SESCO Canada proposes to export to Canada would be surplus energy purchased from electric utilities, Federal power marketing agencies, and other entities within the United States. The existing international transmission facilities to be utilized by SESCO Canada have previously been authorized by Presidential permits issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE and must be received on or before the date listed above.

Comments on the SESCO Canada application to export electric energy to Canada should be clearly marked with OE Docket No. 297-B. Additional copies (one each) are to be filed directly with Michael Schbiger, CEO, SESCO Enterprises Canada, Ltd., 2 Tower Center, Suite 1202, East Brunswick, NJ 08816 and Carol A. Smoots, Esq. and Nidhi J. Thakar, Esq., Perkins Coie, LLP, 700 13th Street, NW., Suite 600, Washington, DC 20005. A final decision will be made on this application after the environmental impacts have been evaluated pursuant to DOE's National Environmental Policy Act Implementing Procedures (10 CFR part 1021) and after a determination is made by DOE that the proposed action will not have an adverse impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC, on February 23, 2011.
Anthony J. Como,
Director, Permitting and Siting, Office of Electricity Delivery and Energy Reliability.

[FR Doc. 2011-4643 Filed 3-1-11; 8:45 am]

BILLING CODE 6450-01-P